SURFACE TRANSPORTATION BOARD

[Docket No. EP 552 (Sub-No. 20)]

Railroad Revenue Adequacy—2015 Determination

AGENCY: Surface Transportation Board.

ACTION: Notice of decision.

SUMMARY: On September 8, 2016, the Board served a decision announcing the 2015 revenue adequacy determinations for the Nation's Class I railroads. Four carriers, BNSF Railway Company, Grand Trunk Corporation, Soo Line Corporation, and Union Pacific Railroad Company, were found to be revenue adequate.

DATES: Effective Date: This decision is effective on September 8, 2016.

FOR FURTHER INFORMATION CONTACT: Pedro Ramirez, (202) 245-0333. Assistance for the hearing impaired is available through Federal Information Relay Service (FIRS) at (800) 877-8339.

SUPPLEMENTARY INFORMATION: The Board is required to make an annual determination of railroad revenue adequacy. A railroad is considered revenue adequate under 49 U.S.C. 10704(a) if it achieves a rate of return on net investment (ROI) equal to at least the current cost of capital for the railroad industry for 2015, determined to be 9.61% in Railroad Cost of Capital—2015, EP 558 (Sub-No. 19) (STB served August 5, 2016). This revenue adequacy standard was applied to each Class I railroad. Four carriers, BNSF Railway Company, Grand Trunk Corporation, Soo Line Corporation, and Union Pacific Railroad Company, were found to be revenue adequate for 2015.

The decision in this proceeding is posted on the Board's Web site at www.stb.dot.gov. Copies of the decision may be purchased by contacting the Office of Public Assistance, Governmental Affairs, and Compliance at (202) 245-0238. Assistance for the hearing impaired is available through FIRS at (800) 877-8339.

Decided: September 6, 2016.
By the Board, Chairman Elliott, Vice Chairman Miller, and Commissioner Begeman.
Marline Simeon,
Clearance Clerk.

[FR Doc. 2016-21869 Filed 9-9-16; 8:45 am]

BILLING CODE 4915-01-P